DEPARTMENT OF AGRICULTURE

Forest Service

Tuolumne County Resource Advisory Committee

AGENCY: Forest Service, USDA.

ACTION: Notice of meeting.

SUMMARY: The Tuolumne County Resource Advisory Committee will meet on August 25, 2003, at the City of Sonora Fire Department, in Sonora, California. The purpose of the meeting is to complete voting on proposed projects.

DATES: The meeting will be held August 25, 2003, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370; (209) 532-3671; e-mail pkaunert@fs.fed.us.

SUPPLEMENTARY INFORMATION: Agenda items to be covered include: (1) Complete voting on proposed projects: (2) Public comment on meeting proceedings. This meeting is open to the public.

Dated: July 23, 2003.
Tom Quinn,
Forest Supervisor.

[FR Doc. 03-19312 Filed 7-29-03; 8:45 am]

BILLING CODE 3410-ED-M